DEPARTMENT OF ENERGY

10 CFR Part 835

[Docket No. HS-RM-09-835]

RIN 1901-AA95

Occupational Radiation Protection; Correction

AGENCY: Department of Energy.

ACTION: Final rule; correcting amendments.

SUMMARY: The Department of Energy (DOE) corrects two errors in its Occupational Radiation Protection regulations. One error originated in a final rulemaking (FR Doc. 98-27366), which was published in the Federal Register of Wednesday, November 4, 1998 (63 FR 59661). The second error originated in a final rulemaking (FR Doc. E7-10477), which was published in the Federal Register of Friday, June 8, 2007 (72 FR 31903).

DATES: Effective Date: April 21, 2009.

FOR FURTHER INFORMATION CONTACT: Judith Foulke, (301) 903-5865, e-mail: Judy.Foulke@hq.doe.gov.

SUPPLEMENTARY INFORMATION:

Background

DOE first published title 10, Code of Federal Regulations, part 835, Occupational Radiation Protection (part 835), as a final rule on December 14, 1993. In the November 4, 1998, amendment to part 835, DOE, in part, revised footnote 1 to appendix D. The revised footnote references an exception noted in footnote 5. The exception is actually found in footnote 6. When DOE proposed amending part 835 on August 10, 2006, DOE proposed correcting this error; however, in the final rule amending part 835 on June 8, 2007, the correction was not made. Accordingly, footnote 1 needs to be revised to reference the exception in footnote 6.

When DOE proposed amending part 835 on August 10, 2006, DOE proposed revising the definition of “absorbed dose” to read: “Absorbed dose (D) means the average energy absorbed by matter from ionizing radiation per unit mass of irradiated material. The absorbed dose is expressed in units of rad (or gray) (1 rad = 0.01 gray).” During the public comment period, a comment was received that the definition should be changed from “energy absorbed by matter” to “energy imparted.” As noted in the preamble to the June 8, 2007, amendment, DOE agreed with the comment and revised the definition to read: “Absorbed dose (D) means the average energy imparted by ionizing radiation to the matter in a volume element. The absorbed dose is expressed in units of rad (or gray) (1 rad = 0.01 gray).” In making this revision, the phrase “per unit mass of irradiated material” was inadvertently deleted from the end of the first sentence.

Need for Corrections

This correction revises the definition of “absorbed dose” and changes the reference to footnote 6 in footnote 1 of appendix D to part 835.

List of Subjects in 10 CFR Part 835

Federal buildings and facilities, Nuclear energy, Nuclear materials, Nuclear power plants and reactors, Nuclear safety, Occupational safety and health, Radiation protection, and Reporting and recordkeeping requirements.

Accordingly, 10 CFR part 835 is corrected by making the following correcting amendments:

PART 835—OCCUPATIONAL RADIATION PROTECTION

1. The authority citation for part 835 continues to read as follows:

Authority: 42 U.S.C. 2201, 7191; 50 U.S.C. 2410.

2. In § 835.2(b), the definition of “absorbed dose” is corrected to read as follows:

§ 835. 2 Definitions.

* * * * *

(b) * * *

Absorbed dose (D) means the average energy imparted by ionizing radiation to the matter in a volume element per unit mass of irradiated material. The absorbed dose is expressed in units of rad (or gray) (1 rad = 0.01 gray).

* * * * *

3. In appendix D, footnote 1 of the table is corrected to read as follows:

Appendix D to Part 835—Surface Contamination Values

* * * * *

¹ The values in this appendix, with the exception noted in footnote 6 below, apply to radioactive contamination deposited on, but not incorporated into the interior or matrix of, the contaminated item. Where surface contamination by both alpha- and beta-gamma-emitting nuclides exists, the limits established for alpha- and beta-gamma-emitting nuclides apply independently.

* * * * *

Issued in Washington, DC, on April 13, 2009.
Glenn S. Podonsky,
Chief Health, Safety and Security Officer, Office of Health, Safety and Security.

[FR Doc. E9-9097 Filed 4-20-09; 8:45 am]

BILLING CODE 6450-01-P